DEPARTMENT OF HEALTH AND HUMAN SERVICES

Centers for Medicare & Medicaid Services

[Document Identifier: CMS-10209, CMS-10701, CMS-10516, CMS-855O and CMS-216-94]

Agency Information Collection Activities: Proposed Collection; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (the PRA), federal agencies are required to publish notice in the Federal Register concerning each proposed collection of information (including each proposed extension or reinstatement of an existing collection of information) and to allow 60 days for public comment on the proposed action. Interested persons are invited to send comments regarding our burden estimates or any other aspect of this collection of information, including the necessity and utility of the proposed information collection for the proper performance of the agency's functions, the accuracy of the estimated burden, ways to enhance the quality, utility, and clarity of the information to be collected, and the use of automated collection techniques or other forms of information technology to minimize the information collection burden.

DATES: Comments must be received by June 8, 2021.

ADDRESSES: When commenting, please reference the document identifier or OMB control number. To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: Document Identifier/OMB Control Number: CMS-P-0015A, Room C4-26-05, 7500 Security Boulevard, Baltimore, Maryland 21244-1850.

To obtain copies of a supporting statement and any related forms for the proposed collection(s) summarized in this notice, you may make your request using one of following:

1. Access CMS' website address at website address at https://www.cms.gov/Regulations-and-Guidance/Legislation/PaperworkReductionActof1995/PRA-Listing.html

FOR FURTHER INFORMATION CONTACT: William N. Parham at (410) 786-4669.

SUPPLEMENTARY INFORMATION:

Contents

This notice sets out a summary of the use and burden associated with the following information collections. More detailed information can be found in each collection's supporting statement and associated materials (see ADDRESSES).

CMS-10209 Medicare Advantage Chronic Care Improvement Program (CCIP) Attestations

CMS-10701 Medicare Beneficiary Experiences with Care Survey (MBECS) System

CMS-10516 Program Integrity II

CMS-855O Medicare Registration Application

CMS-216-94 Organ Procurement Organization/Histocompatibility Laboratory Cost Report

Under the PRA (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires federal agencies to publish a 60-day notice in the Federal Register concerning each proposed collection of information, including each proposed extension or reinstatement of an existing collection of information, before submitting the collection to OMB for approval. To comply with this requirement, CMS is publishing this notice.

Information Collection

1. Type of Information Collection Request: Revision of a currently approved collection; Title of Information Collection: Medicare Advantage Chronic Care Improvement Program (CCIP) Attestations; Use: Section 1852(e) of the Social Security Act (the Act) requires that Medicare Advantage (MA) organizations (MAOs) have an ongoing Quality Improvement (QI) Program. CMS regulations at 42 CFR 422.152(a) outline the QI Program requirements for MAOs, which include the development and implementation of a Chronic Care Improvement Program (CCIP) that meets the requirements of 422.152(c) for each contract.

MAOs must use the Health Plan Management System (HPMS) to report the status of their CCIP to CMS by December 31 annually. Submissions include an attestation by the MAO regarding its compliance with the ongoing CCIP requirement (42 CFR 422.152(c)(2)). MAOs are only required to attest electronically that they are complying with the ongoing CCIP requirement. In addition, MAOs should assess and internally document activities related to the CCIP on an ongoing basis, as well as modify interventions and/or processes as necessary. A less frequent collection would not allow CMS to ensure that annual requirements are being met. This collection allows CMS to ensure that annual requirements are still being met, while also reducing plan burden. Form Number: CMS-10209 (OMB Control number: 0938-1023); Frequency: Annually; Affected Public: Private Sector—Business or other for-profits; Number of Respondents: 645; Total Annual Responses: 645; Total Annual Hours: 161 (For policy questions regarding this collection contact Lynn Pereira at 410-786-2274)

2. Type of Information Collection Request: New collection (Request for a new OMB control number); Title of Information Collection: Medicare Beneficiary Experiences with Care Survey (MBECS) System; Use: The MBECS system is designed to conduct population specific surveys that will be administered to the group of interest, fielded one time. This means that over the three-year period, two individual surveys will be administered. This will allow CMS OMH to respond quickly to the data needs of stakeholders with interests in these underrepresented groups. Data collected through the MBECS system will be used to better understand—and thus serve the needs of—Medicare beneficiaries in minority populations. The core questionnaire will collect information on communication with medical professionals, coordination of health care, experiences getting needed health care, experiences with personal doctors and specialists, and key demographics. Data will be compared to benchmarks from the FFS CAHPS, MA CAHPS, and NAM CAHPS surveys. The population-specific questionnaire module described and submitted via a specific collection request will collect information about issues most relevant for that particular group of interest.

The goal of this umbrella data collection effort is to gather data via separate surveys on a variety of minority Medicare beneficiaries' experiences. Topics and questions of interest may ask about beneficiaries' communication with medical professionals, coordination of health care, experiences getting needed health care, and experiences with personal doctors and specialists. CMS OMH will compare survey data to benchmarks from the general population of Medicare beneficiaries while controlling for population characteristics, as appropriate.

Survey respondents will have the opportunity to respond to an MBECS survey via a self-administered web-based survey (also called computer-assisted web interview or CAWI). CAWI technology minimizes respondent burden by (1) Automatically providing text fills within questions and handling skip patterns based on responses to each question; (2) allowing respondents to complete the survey at a convenient time; (3) allowing respondents to stop and re-enter the survey if needed; and (4) capturing data in real-time, thereby eliminating the need for manual data entry. Form Number: CMS-10701 (OMB Control number: 0938-New); Frequency: Annually; Affected Public: Individuals and Households; Number of Respondents: 13,000; Total Annual Responses: 13,000; Total Annual Hours: 4,290 (For policy questions regarding this collection contact Luis Pons Perez at 410-786-8557)

3. Type of Information Collection: Extension of a currently approved collection; Title of Information Collection: Program Integrity II; Use: On June 19, 2013, HHS published proposed rule CMS-9957-P: Program Integrity: Exchanges, SHOP, Premium Stabilization Programs, and Market Standards (78 FR 37302) (Program Integrity Proposed Rule) which, among other things, contained third party disclosure requirements and data collections that supported the oversight of premium stabilization programs, State Exchanges, and qualified health plan (QHP) issuers in Federally-facilitated Exchanges (FFEs). Parts of the proposed rule were finalized as Patient Protection and Affordable Care Act; Program Integrity: Exchange, Premium Stabilization Programs, and Market Standards; Amendments to the HHS Notice of Benefit and Payment Parameters for 2014; Final Rule (Program Integrity Final Rule II), 78 FR 25326 (October 24, 2013). This ICR relates to a portion of the information collection request (ICR) requirements set forth in the final rule. Form Number: CMS-10516 (OMB control number: 0938-1277); Frequency: Annually; Affected Public: Private Sector, State, Business, and Not-for Profits; Number of Respondents: 428; Number of Responses: 428; Total Annual Hours: 40,420. (For questions regarding this collection, contact Joshua Van Drei at (410-786-1659).

4. Type of Information Collection Request: Revision of a currently approved information collection; Title of Information Collection: Medicare Registration Application; Use: Physicians and practitioners complete the Medicare Enrollment Application—Enrollment for Eligible Ordering, Certifying Physicians and Other Eligible Professionals if they are enrolling in Medicare not to obtain Medicare billing privileges but strictly to order, refer, or certify certain Medicare items and services. It is used by Medicare contractors to collect data that helps ensure the applicant has the necessary credentials to order and certify certain Medicare items and services.

The MAC establishes Medicare Identification Numbers. The MACs store these numbers and information in CMS' Provider Enrollment, Chain and Ownership System (PECOS). The application is used by the CMS' contractors to collect data ensures that the applicant has the necessary information for unique identification. The license numbers are validated against state licensing websites. All the license numbers are captured and stored in the MAC database. Social Security Numbers (SSNs) are validated against the Social Security Administration database (SSA) and only the valid entries are allowed to proceed in the process of getting a Medicare billing number. Correspondence address and contact information is captured to contact the provider/supplier.

The collection and verification of this information defends and protects our beneficiaries from illegitimate providers/suppliers. These procedures also protect the Medicare Trust Fund against fraud. It gathers information that allow Medicare contractors to ensure that the physician or eligible professional is not sanctioned from the Medicare and/or Medicaid program(s), or debarred, or excluded from any other Federal agency or program. The data collected also ensures that the applicant has the necessary credentials to order and certify health care services. This is sole instrument implemented for this purpose. Form Number: CMS-855O (OMB Control Number: 0938-1135); Frequency: Occasionally; Affected Public: Private Sector (Business or other for-profits), State, Local, or Tribal Governments; Number of Respondents: 448,000; Number of Responses: 24,000; Total Annual Hours: 243,600. (For questions regarding this collection contact Kimberly McPhillips (410-786-8438.)

5. Type of Information Collection Request: Reinstatement without change of a previously approved collection; Title of Information Collection: Organ Procurement Organization Histocompatibility Laboratory Cost Report; Use: The Form CMS-216-94 cost report is needed to determine Organ Procurement Organization (OPO)/Histocompatibility Lab (HL) reasonable costs incurred in procuring and transporting organs for transplant into Medicare beneficiaries and reimbursement due to or from the provider. The reasonable costs of procuring and transporting organs cannot be determined for the fiscal year until the OPO/HL files its cost report and costs are verified by the Medicare contractor. During the fiscal year, an interim rate is established based on cost report data from the previous year. The OPO/HL bills the transplant hospital for services rendered. The transplant hospital pays interim payments, approximating reasonable cost, to the OPO/HL. The Form CMS-216-94 cost report is filed by each OPO/HL at the end of its fiscal year and there is a cost report settlement to take into account increases or decreases in costs. The cost report reconciliation and settlement take into consideration the difference between the total reasonable costs minus the total interim payments received or receivable from the transplant centers. Form Number: CMS-216-94 (OMB Control number: 0938-0102); Frequency: Annually; Affected Public: Private Sector—Business or other for-profits; Number of Respondents: 95; Total Annual Responses: 95; Total Annual Hours: 4,275 (For policy questions regarding this collection contact Luann Piccione at 410-786-5423)

Dated: April 6, 2021.
William N. Parham, III,
Director, Paperwork Reduction Staff, Office of Strategic Operations and Regulatory Affairs.

[FR Doc. 2021-07342 Filed 4-8-21; 8:45 am]

BILLING CODE 4120-01-P